Memorandum of June 21, 2024

Establishment of the Economic Diplomacy Action Group and Delegation of Certain Functions and Authorities Under the Championing American Business Through Diplomacy Act of 2019

Memorandum for the Secretary of State[,] the Secretary of the Treasury[,] the Secretary of Agriculture[,] the Secretary of Commerce[,] the United States Trade Representative[,] the Administrator of the United States Agency for International Development[,] the President of the Export-Import Bank of the United States[, and] the Chief Executive Officer of the United States International Development Finance Corporation

Supporting United States economic and business interests abroad is a foreign policy priority. United States business has a critical role to play in advancing broader United States national security and foreign policy interests. Economic diplomacy can help to promote broad-based, inclusive, responsible, and sustainable economic growth, which enhances regional stability and creates new and growing markets for United States companies and opportunities for United States workers. By the authority vested in me as President by the Constitution and the laws of the United States of America, including section 301 of title 3, United States Code, and section 708 of the Championing American Business Through Diplomacy Act of 2019 (Title VII of Division J of Public Law 116-94) (the “Act”), I hereby establish the Economic Diplomacy Action Group (EDAG) and delegate to you the functions and authorities vested in the President by subsection 708(c)(3) of the Act to appoint to the EDAG senior officials from your respective executive departments and agencies (agencies).

With respect to the performance of responsibilities under this memorandum, the Secretary of State, in coordination with the heads of relevant agencies, shall encourage and coordinate the appointment of members of the EDAG by the heads of their respective agencies. Consistent with the Act, such members, as well as any designated alternates, shall be senior officials who exercise significant decision-making authority within their respective agencies.

The delegation in this memorandum shall apply to any provisions of any future public laws that are the same or substantially the same as those provisions referenced in this memorandum.

The Secretary of State is authorized and directed to publish this memorandum in the Federal Register.

THE WHITE HOUSE,

Washington, June 21, 2024

[FR Doc. 2024-15481

Filed 7-11-24; 8:45 am]

Billing code 4710-10-P